DEPARTMENT OF LABOR

Office of the Secretary

Submission for OMB Emergency Review; Comment Request

August 20, 2002.

The Department of Labor (DOL) has submitted the following public information collection request (ICR), utilizing emergency review procedures, to the Office of Management and Budget (OMB) for review and approval in accordance with the Paperwork Reduction Act of 1995 (Pub. L. 104-13, 44 U.S.C. Chapter 35). OMB approval has been requested by September 6, 2002. A copy of each individual ICR, with applicable supporting documentation, may be obtained by calling the Department of Labor. To obtain documentation contact Marlene Howze at (202) 693-4158 or e-mail Howze-Marlene@dol.gov.

Comments and questions about the ICR listed below should be sent to Office of Information and Regulatory Affairs, Attn: OMB Desk Officer for the Bureau of Labor Statistics, Office of Management and Budget, Room 10235, Washington, DC 20503, and within five (5) days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected;

• Minimize the burden of the collection of information on those who are to respond, including through the use of appropriate automated, electronic, mechanical, or other technological collection techniques or other forms of information technology, e.g., permitting electronic submission of responses.

Agency: Bureau of Labor Statistics (BLS).

Title: CPS Volunteer Supplement.

OMB Number: 1220-0NEW.

Affected Public: Individuals or households.

Frequency: On Occasion.

Number of Respondents: 58,000.

Number of Annual Responses: 116,000.

Total Burden Hours: 5,800.

Total Annualized Capital/Startup Costs: $0.

Total Annual Costs (operating/maintaining systems or purchasing services): $0.

Description: The Volunteer Supplement will provide information on the total number of individuals in the United States involved in unpaid volunteer activities, factors that motivate volunteerism, measures of the frequency or intensity with which individuals volunteer, types of organizations that facilitate volunteerism, and activities in which volunteers participate. In his January 2002 State of the Union address to the nation, President Bush called for all Americans to devote 4,000 hours of volunteer service during their lifetimes. The BLS is undertaking this project at the request of the USA Freedom Corps that seeks to promote a culture of responsibility, service, and citizenship. The Volunteer Supplement will provide the ability to accurately and reliably measure the current level of volunteer activities in the U.S.

Ira L. Mills,
DOL Clearance Officer.

[FR Doc. 02-21629 Filed 8-22-02; 8:45 am]

BILLING CODE 4510-23-M